DEPARTMENT OF JUSTICE

Antitrust Division

Notice Pursuant to the National Cooperative Research and Production Act of 1993—Die Products Consortium

Notice is hereby given that, on May 26, 2005, pursuant to Section 6(a) of the National Cooperative Research and Production Act of 1993, 15 U.S.C. 4301 et seq. (“the Act”), Die Products Consortium (“DPC”) has filed written notifications simultaneously with the Attorney General and the Federal Trade Commission disclosing changes in its membership. The notifications were filed for the purpose of extending the Act's provisions limiting the recovery of antitrust plaintiffs to actual damages under specified circumstances. Specifically, Infineon Technologies AG, Munich, GERMANY; and Philips Semiconductors, Inc., San Jose, CA have been added as parties to this venture. Also, National Semiconductor Corporation, Santa Clara, CA; and August Technology, Bloomington, MN have withdrawn as parties to this venture. The following member has changed its name: Motorola SPS to Freescale Semiconductor, Inc., Austin, TX.

No other changes have been made in either the membership or planned activity of the group research project. Membership in this group research project remains open, and DPC intends to file additional written notification disclosing all changes in membership.

On November 15, 1999, DPC filed its original notification pursuant to Section 6(a) of the Act. The Department of Justice published a notice in the Federal Register pursuant to Section 6(b) of the Act on June 26, 2000 (65 FR 39429).

The last notification was filed with the Department on May 19, 2003. A notice was published in the Federal Register pursuant to Section 6(b) of the Act on June 10, 2003 (68 FR 34644).

Dorothy B. Fountain,
Deputy Director of Operations, Antitrust Division.

[FR Doc. 05-12047 Filed 6-17-05; 8:45 am]

BILLING CODE 4410-11-M